DEPARTMENT OF COMMERCE

Foreign-Trade Zones Board

[B-44-2022]

Foreign-Trade Zone (FTZ) 161—Wichita, Kansas; Notification of Proposed Production Activity; Great Plains Manufacturing, Inc. (Agricultural and Construction Equipment), Abilene, Assaria, Ellsworth, Enterprise, Kipp, Lucas, Salina, and Tipton, Kansas

Great Plains Manufacturing, Inc. submitted a notification of proposed production activity to the FTZ Board (the Board) for its facilities in Abilene, Assaria, Ellsworth, Enterprise, Kipp, Lucas, Salina, and Tipton, Kansas within FTZ 161. The notification conforming to the requirements of the Board's regulations (15 CFR 400.22) was received on September 12, 2022.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz.

The proposed finished products include: tool boxes; product catalogs; replacement glass and glass assemblies; kits (mirror replacement; tool box (with tools); radio mounting; gas and diesel engine repair; extension blade; transmission repair (for agricultural tractors and compact tracked loaders); alternator; signal light repair; horn; trailer); assemblies (key; hydraulic cylinder; gas, oil, and water pump; electrical connector; wheel and wheel and tire); gas and diesel replacement engines; gas, oil, air, and water filters and filter assemblies; attachments (liquid applicator; sprayer (for tractors); drilling; compact tracked loader; tractor and compact tracked loader (and attachment hardware); mower; hay and grain harvesting); self-propelled trucks; bulldozers; graders; tamping machines; compact tracked loaders; gas and diesel tractors; front end bucket loaders; repair parts for mowers, harvesters, and balers; hydraulic valves and valve kits; rear defoggers; engine diagnostic software; vehicle control units; wire harnesses; gas and diesel tractors for agricultural use; gear boxes and clutches for agricultural implements and compact tracked loaders; and, drive shaft repair parts and drive train repair parts for compact tracked loaders (duty rate ranges from duty-free to 12.0%).

The proposed foreign-status materials and components include: oil and grease; glues and adhesives for implement and vehicle assembly; antiknock fluid; reinforced and unreinforced tubes and hoses, with and without fittings; plastic components (pipe fittings and switches; adhesive tape; insulators; boxes; bags; bottles; caps and plugs; buckets; bolts; handles and knobs); sound and water absorbers; rubber components (O-rings; gaskets; seals; rods; hoses and belts for use in gas and diesel vehicle assembly; mats; cushions); tires and inner tubes for agricultural implements; O-rings and seals; empty tool cases; empty wood cases for tractor tools and parts; plastic and paper safety, warning, and identification labels; printed instructions; warranty certificates and manuals; instruction manuals; drawings and schematics; paper for printed instructions; brake linings; friction materials for braking applications; gaskets, including gaskets with flanges; molded glass windows, safety glass windows, and attaching hardware; magnetos; distributors; components for agricultural implements and compact tracked loaders (mirrors and assemblies, framed and unframed; pressed and molded glass; steel bars, containers, enclosures, cables, chain and chain parts; galvanized steel tubes; stainless steel tubes; iron, steel, and base metal tubes, pipes and pipe fittings; assemblies (adapter; contactor; parts of headlamp; clutch; rod; shaft; heater); couplers; structural steel; iron, steel, and stainless steel bolts and studs, screws, nuts, washers, clips, keys, and pins; brass plates; copper tubing; slide rings and eye joints; packing and packing nuts for fluid containment; copper and brass washers and other fasteners; adapters; spacers; hinges and brackets; handles and levers; lock brackets and bracket assemblies; door dampers; plugs; nameplates; spring motors; fans; air conditioners; condensers; heating units; cutting blades and packaging machinery guides; jacks; electrical indicators; bushings, bearings, and gear cases; pulleys; motors, generators, and motor assemblies; commutator parts; discharge ballasts; static converters; permanent magnets; electromagnetic clutches; solenoids; batteries; gas controllers; electric and space heaters; heater blocks; resistors and other heater components; sensors; light sockets and light socket assemblies; electrical cables; electrodes; wheels; shock absorbers; radiators; bearing holders; transmissions and transmission subassemblies; brakes; covers (axle; dust; regulator); stays; rods; muffler pipes and stays; flanges; supports; knobs; wiper blades; control wires; control cables; universal joints; bevel gears; spiral gears; pinion gears; guards; lenses; plates; planetary gears; splines; drive shafts; clutch rod shafts; U-joints; collars; cases (differential; transmission; axle; gear); ball joints; gear shafts; pins; shims; drive shaft caps; shaft couplings; steering shafts; shaft yokes; bushings; thrust collars; synchronizer rings; tie rods; battery retainers; control pedals; fuel tanks; hand rails; radiator grilles; bonnet dampers; steering linkages; suspension linkages; struts; thermostats; temperature controllers); glass and plastic lenses and lens covers for vehicle and attachment lights; fiberglass insulation; steel flanges, joints, and couplings; intake screens; rivets; springs; cast iron fittings; shims; hose fittings; copper wire and winding wire; components for inclusion in tractor tool boxes (slip joint pliers; open end wrenches; hammers; steel hand tools; clamps); tool boxes for tractor tool kits; blades for agricultural tractors and tractor implements; locks, lock parts, and lock assemblies for vehicles; steel flex tubing; gas, diesel, and hydraulic engines; gas and diesel engine components (dynamos; fuel tank caps; connecting rods and rod assemblies; rocker arms and rocker arm assemblies; push rods; pistons; exhaust manifolds; intake manifolds; carburetors, carburetor assemblies and subassemblies; intake valves; exhaust valves; throttle body assemblies; piston rings; spark plug caps; chain guides; oil dipstick guides; oil dipsticks; crankshafts and crankshaft shims; cylinder heads; water pumps; cylinder liners; tensioners; brackets; housings; rotors; flyweight governors; bearing case covers; bearing holders; crankcases; vaporizer assemblies; crankcase covers; carburetor jets and nozzles; fuel injectors; timing chain covers; fuel delivery assemblies; rocker arm covers; valve covers; balancer shafts; filter elements; oil pans; gasket shims); assemblies (hydraulic cylinder; compressor; universal joint; starter; alternator; light; windshield wiper arm; condenser; switch; fuel and dashboard; seat belt; front axle); fuel pumps and assemblies; hydraulic pumps; gas, oil, air, and water pumps and pump assemblies; pump housings; air compressors and assemblies; gas, oil, air, and water filters and filter assemblies; components for agricultural tractors (digital scales; sprayers; washer tanks; washer nozzles; electromechanical displays); fire extinguishers; conveyor belts for agricultural use; tractor and compact tracked loader implements and attachments; components attached to tractors and compact tracked loaders (parts of the type of plow or disc plow; parts of the type of disc harrows; parts of the type of cultivators, weeders, rotary tillers, and hoes; parts of the type of no-till seeders, planters, and transplanters; parts of the type of tilling seeders, planters, and transplanters; parts of the type of manure spreaders; parts of the type of fertilizer spreaders; parts of the type of scarifiers, spreaders, aerators, and de-thatchers; parts of the type of hay and grass mowers, harvesters, threshers, and balers); hay and grain equipment; seals (weather; oil; dust); flat panel displays for vehicle information display; hydraulic valve and valve assemblies for agricultural tractors and construction equipment; roller bearing cups; drive shaft components; battery covers and retainers; spark plugs; starter systems; safety buzzers for agricultural tractors and construction vehicles; windshield wipers; speakers; microphones; radio transmission devices; radar equipment; stereos; radios; vehicle information displays; antennae; lighted indicator panels; indicator panels; seals; capacitors; resistors; variable resistors; circuit boards; circuit breakers; vehicle fuses; relays; electrical connectors; lamps (for vehicles; halogen; filament; work); diodes; vehicle engine control units; vehicle electrical controls; ignition wire sets; battery cables; wire harnesses; electrical insulators; electrical conduit; empty cells for vehicle batteries; battery fixtures; tractor bodies; bumpers; vehicle parking locks; transmission components; sound mufflers for vehicle engines; glass lenses and unmounted glass lenses for vehicle signals and controls; thermometers, sensors, gauges, oil switches, and odometers and similar counting displays for use in vehicles; electrical, liquid, gas, and speed sensors for use in vehicle control; meters and instruments for checking voltage and other vehicle and farm implement electrical performance properties; test benches for vehicle and implement repair; rotary switches; seats and seat assemblies; rollers, slides for seats; brushes for vehicle paint touch-ups; and, electric lighters (duty rate ranges from duty free to 12.0%; 12¢/doz. + 5.5%; 1.5¢/kg + 3.5%; 2.2¢/kg + 5%). The request indicates that certain materials/components are subject to duties under Section 232 of the Trade Expansion Act of 1962 (Section 232) or Section 301 of the Trade Act of 1974 (Section 301), depending on the country of origin. The applicable Section 232 and Section 301 decisions require subject merchandise to be admitted to FTZs in privileged foreign status (19 CFR 146.41).

Public comment is invited from interested parties. Submissions shall be addressed to the Board's Executive Secretary and sent to: ftz@trade.gov. The closing period for their receipt is November 1, 2022.

A copy of the notification will be available for public inspection in the “Online FTZ Information System” section of the Board's website.

For further information, contact Juanita Chen at juanita.chen@trade.gov.

Dated: September 19, 2022.
Elizabeth Whiteman,
Acting Executive Secretary.

[FR Doc. 2022-20567 Filed 9-21-22; 8:45 am]

BILLING CODE 3510-DS-P